DEPARTMENT OF ENERGY

Federal Energy Regulatory Commission

Combined Notice of Filings #1

Take notice that the Commission received the following electric rate filings:

Docket Numbers: ER10-2502-013; ER10-2472-013; ER10-2473-014; ER11-2724-012; ER11-4436-013; ER18-2518-007; ER19-645-006.

Applicants: Black Hills Colorado Wind, LLC, Black Hills Electric Generation, LLC, Black Hills Power, Inc., Black Hills Colorado IPP, LLC, Cheyenne Light, Fuel and Power Company, Black Hills Wyoming, LLC, Black Hills Colorado Electric, LLC.

Description: Triennial Market Power Analysis for Southwest Region of Black Hills Colorado Electric, LLC, et al.

Filed Date: 6/30/25.

Accession Number: 20250630-5377.

Comment Date: 5 p.m. ET 8/29/25.

Docket Numbers: ER10-2822-030; ER10-3158-011; ER10-3161-011; ER10-3162-012; ER12-308-011; ER16-1238-005; ER17-1242-004; ER17-1392-005; ER19-2707-007; ER21-41-002; ER25-310-001; ER25-1529-002.

Applicants: Avangrid Power, LLC, Camino Solar, LLC, La Joya Wind, LLC, Poseidon Wind, LLC, El Cabo Wind LLC, Tule Wind LLC, Avangrid Arizona Renewables, LLC, Manzana Wind LLC, Mountain View Power Partners III, LLC, Shiloh I Wind Project, LLC, Dillon Wind LLC, Atlantic Renewable Projects II LLC.

Description: Triennial Market Power Analysis for Southwest Region of Atlantic Renewable Projects II LLC, et al.

Filed Date: 6/30/25.

Accession Number: 20250630-5375.

Comment Date: 5 p.m. ET 8/29/25.

Docket Numbers: ER14-2499-000.

Applicants: Oneta Power, LLC.

Description: Second Supplement to 12/31/2024, Triennial Market Power Analysis for Southwest Power Pool Inc. Region of Oneta Power, LLC.

Filed Date: 6/30/25.

Accession Number: 20250630-5379.

Comment Date: 5 p.m. ET 7/21/25.

Docket Numbers: ER22-2784-010; ER12-1911-008; ER12-1912-008; ER12-1913-008; ER12-1915-008; ER12-1916-008; ER12-1917-008; ER14-41-015; ER14-42-015; ER16-498-014; ER16-499-014; ER16-500-014; ER16-2277-008; ER16-2289-009; ER18-1174-009; ER20-2448-010; ER21-133-010; ER21-736-011; ER21-1962-011; ER21-2634-009; ER25-590-003.

Applicants: Pome BESS LLC, Solar Star Lost Hills, LLC, Mulberry BESS LLC, RE Slate 1 LLC, HDSI, LLC, American Kings Solar, LLC, Imperial Valley Solar 2, LLC, Golden Fields Solar I, LLC, Solar Star California XLI, LLC, RE Mustang 4 LLC, RE Mustang 3 LLC, RE Mustang LLC, RE Rosamond Two LLC, RE Rosamond One LLC, RE McKenzie 6 LLC, RE McKenzie 5 LLC, RE McKenzie 4 LLC, RE McKenzie 3 LLC, RE McKenzie 2 LLC, RE McKenzie 1 LLC, MN8 Energy Marketing LLC.

Description: Updated Triennial Market Power Analysis for Southwest Region of MN8 Energy Marketing LLC, et al.

Filed Date: 6/30/25.

Accession Number: 20250630-5382.

Comment Date: 5 p.m. ET 8/29/25.

Docket Numbers: ER24-2663-004; ER10-1851-022; ER10-1852-113; ER10-1930-022; ER10-1931-023; ER10-1951-086; ER10-1966-026; ER11-4462-109; ER12-2225-025; ER12-2226-025; ER14-21-020; ER14-2138-022; ER15-2101-020; ER15-2582-019; ER17-838-083; ER18-2091-018; ER19-11-016; ER19-2389-016; ER19-2901-016; ER20-1219-013; ER20-1417-014; ER20-1980-014; ER20-1985-013; ER20-1988-014; ER20-2049-013; ER20-2070-011; ER21-1880-010; ER21-2109-009; ER21-2118-013; ER21-2293-013; ER22-1870-008; ER22-2518-007; ER23-489-009; ER23-493-009; ER23-1862-006; ER23-2107-007; ER23-2404-008; ER24-1804-007; ER24-2664-004; ER24-2848-006; ER25-668-002; ER25-796-002; ER25-1438-004; ER25-2416-001.

Applicants: Weld Energy Storage, LLC, Dominguez Grid, LLC, Jackson Fuller Energy Storage, LLC, Wheatridge East Wind, LLC, Troutdale Grid, LLC, Cedar Springs Wind IV, LLC, Clearwater Wind III, LLC, Bronco Plains Wind II, LLC, Clearwater Wind II, LLC, Roundhouse Renewable Energy II, LLC, Thunder Wolf Energy Center, LLC, Neptune Energy Center, LLC, Clearwater Wind I, LLC, Vansycle II Wind, LLC, Fish Springs Ranch Solar, LLC, Dodge Flat Solar, LLC, Wheatridge Wind Energy Center, LLC, Niyol Wind, LLC, Wheatridge Wind II, LLC, Cedar Springs Wind III, LLC, Northern Colorado Wind Energy Center II, LLC, Northern Colorado Wind Energy Center, LLC, Cedar Springs Wind, LLC, Roundhouse Renewable Energy, LLC, Peetz Table Wind, LLC, Bronco Plains Wind, LLC, Grazing Yak Solar, LLC, Peetz Logan Interconnect, LLC, Titan Solar, LLC, NextEra Energy Marketing, LLC, Carousel Wind Farm, LLC, Golden West Power Partners, LLC, Limon Wind III, LLC, Mountain View Solar, LLC, Limon Wind, LLC, Limon Wind II, LLC, NEPM II, LLC, Logan Wind Energy LLC, NextEra Energy Services Massachusetts, LLC, FPL Energy Vansycle, L.L.C., FPL Energy Stateline II, Inc., Florida Power & Light Company, ESI Vansycle Partners, L.P., Anticline Wind, LLC.

Description: Triennial Market Power Analysis for Southwest Region of Anticline Wind, LLC, et al.

Filed Date: 6/30/25.

Accession Number: 20250630-5376.

Comment Date: 5 p.m. ET 8/29/25.

Docket Numbers: ER25-948-002.

Applicants: ALLETE, Inc.

Description: Compliance Filing of ALLETE, Inc. regarding North Dakota PSC Order Approving Construction.

Filed Date: 7/7/25.

Accession Number: 20250707-5191.

Comment Date: 5 p.m. ET 7/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 8, 2025.
Carlos D. Clay,
Deputy Secretary.

[FR Doc. 2025-12968 Filed 7-10-25; 8:45 am]

BILLING CODE 6717-01-P